ENVIRONMENTAL PROTECTION AGENCY

[ER-FRL-8986-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20090225, ERP No. D-AFS-J65543-ND, North Billings County Allotment Management Plan Revisions, Proposes to Continue to Permit Livestock Grazing on 43 Allotments, Medora Ranger District, Dakota Prairie Grasslands, Billings County, ND.

Summary: EPA expressed environmental concerns about impacts to riparian areas and water quality, and requested adding water quality monitoring to the adaptive management plan. Rating EC2.

EIS No. 20090230, ERP No. D-AFS-J65544-CO, North San Juan Sheep and Goat Allotments, Proposal to Permit Domestic Livestock Grazing Management, Conejos Peak Ranger District, Rio Grande National Forest, Conejos, Rio Grande and Archuleta Counties, CO.

Summary: EPA expressed environmental concerns about water quality, riparian stream bank, and forage impacts. Rating EC1.

EIS No. 20090277, ERP No. D-AFS-J65547-CO, Hermosa Park/Mitchell Lakes Land Exchange Project, Proposed Land Exchange between Federal and Non-Federal Lands, Implementation, Federal Land in LaPlata County and Non-Federal Land in San Juan County, CO.

Summary: EPA expressed environmental concerns about direct and indirect impacts from the development of the Chris Park Parcel. EPA also requested that the FEIS analyze the relative impacts of future development of the Hermosa Park, Mitchell Lake, and the Iron Clad parcels versus the proposed development of the Chris Park Parcel. Rating EC2.

EIS No. 20090279, ERP No. D-BLM-L65577-ID, Blackfoot Bridge Mine Project, Developing Three Mine Pits, Haul Roads, Water Management Structures, and Overburden Disposal Areas, Implementation, Caribou County, ID.

Summary: EPA expressed environmental objections to the Preferred Alternative because of potentially significant water quality impacts. Rating EO2.

EIS No. 20090287, ERP No. D-AFS-J65548-CO, Willow Creek Pass Fuel Reduction Project, Implementation, Hahns Peak/Bear Ears Ranger District, Medicine Bow-Routt National Forests, Routt County, CO.

Summary: While EPA has no objection to the proposed action, we requested additional information on air quality impacts and mitigation. Rating LO.

EIS No. 20090295, ERP No. D-FRC-J03023-00, Bison Pipeline Project (Docket No. CP09-161-000), Construction, Operation, and Maintenance of Interstate Natural Gas Pipeline Facilities, Application for Right-of-Way Grant and Temporary Use Permit, NPDES Permit and US COE 404 Permit, WY, MT, and ND.

Summary: EPA expressed environmental concerns about air quality, water quality and hydrostatic testing impacts. Rating EC2.

EIS No. 20090317, ERP No. D-USA-D11046-VA, Fort Monroe U.S. Army Garrison Base Realignment and Closure (BRAC) 2005 Disposal and Reuse of Surplus Nonreverting Property, Fort Monroe, VA.

Summary: EPA expressed environmental concerns about the early transfer disposal alternative that will allow the reuse of the surplus property to occur before environmental remedial action has been completed. Rating EC2.

EIS No. 20090330, ERP No. D-USN-K11125-CA, Marine Corps Base Camp Pendleton Basewide Utilities Infrastructure Construct and Operate Six Utility Infrastructure Project, San Diego County, CA.

Summary: EPA expressed environmental concerns about water resources and offered suggestions to mitigate air toxics emissions, improve energy efficiency, and generate renewable energy. Rating EC2.

EIS No. 20090345, ERP No. D-AFS-F65078-WI, Honey Creek-Padus Project, Proposes to Harvest Timber, Regenerate Stands, Plant and Protect Tree Seedlings and Manage Access on Approximately 6,702 Acres, Lakewood-Laona Ranger District, Chequamegon-National Forest, Forest County, WI.

Summary: EPA does not object to this project. Rating LO.

EIS No. 20090259, ERP No. DS-AFS-D65036-PA, Allegheny National Forest, Updated Information for the 2007 Land and Resource Management Plan, Implementation, Elk, Forest, McKean and Warren Counties, PA.

Summary: EPA continues to have environmental concerns that the proposed Standards and Guidelines may not sufficiently mitigate impacts to water quality and wildlife resources. Rating EC2.

Final EISs

EIS No. 20090289, ERP No. F-FTA-J53009-CO, Gold Line Corridor Project, Development of Fixed-Guideway Transit Improvements, from Denver Union Station to Ward Road in Wheat Ridge, Implementation, City and County of Denver, Adams, Arvada, Wheat Ridge, and Jefferson Counties, CO.

Summary: EPA expressed environmental concerns about increased pollutant discharges to impaired surface waters.

EIS No. 20090299, ERP No. F-FHW-J40187-UT, Geneva Road, Center Street/1600 West (Provo) to Geneva Road/SR-89 (Pleasant Grove), Improvements, U.S. Army COE 404 Permit, Utah County, UT.

Summary: EPA continues to have environmental concerns about construction air quality impacts and their mitigation, and recommends 10 additional mitigation measures to address emissions from on-road and non-road construction equipment.

EIS No. 20090326, ERP No. F-USN-E11065-FL, Naval Surface Warfare Center Panama City Division (NSWC PCD), Capabilities to Conduct New and Increased Mission Operations for the Department of Navy (DON) and Customers within the three Military Operating Areas and St. Andrew Bay (SAB), Gulf of Mexico, FL.

Summary: EPA does not object to the proposed action.

EIS No. 20090333, ERP No. F-COE-F39042-MN, Mississippi River Headwaters Reservoir Operating Plan Evaluation (ROPE), Proposed Revision to the Operating Plan for the Reservoirs, Upper Mississippi River Headwaters, Bemidji to St. Paul, MN.

Summary: While EPA has no objection to the proposed action, EPA did request that the Corps of Engineers work with recreational users of the reservoirs to institute measures to improve water quality.

EIS No. 20090341, ERP No. F-IBR-K65356-CA, Grassland Bypass Project 2010-2019 Project, Proposed new Use Agreement, San Joaquin River, CA.

Summary: EPA continues to have environmental concerns about the treatment of agriculture runoff to meet selenium objectives by 2019 and minimize the increase of selenium in groundwater. EPA continues to recommend that the Bureau of Reclamation and Delta-Mendota Water Authority consider a long-term option if feasible methods to adequately treat agricultural drain water are not found.

EIS No. 20090342, ERP No. F-AFS-K65355-CA, Sequoia National Forest Motorized Travel Management Project, Prohibit Cross-Country Travel for Managing Motorized Travel, Kern River, Western Divide Ranger Districts, Sequoia National Forest, Tulare County, CA.

Summary: EPA expressed environmental concerns about the continued use of routes in areas that may contain naturally occurring asbestos.

EIS No. 20090350, ERP No. F-AFS-F65044-WI, Grub Hoe Vegetation and Transportation Management Project, Proposes to Implement Vegetation Management Activities, Eagle River Florence Ranger District, Chequamegon-Nicolet National Forest, Florence County, WI.

Summary: EPA does not object to the proposed action.

Dated: November 23, 2009.
Robert W. Hargrove,
Director, NEPA Compliance Division, Office of Federal Activities.

[FR Doc. E9-28415 Filed 11-25-09; 8:45 am]

BILLING CODE 6560-50-P